DEPARTMENT OF HEALTH AND HUMAN SERVICES

Centers for Medicare & Medicaid Services

[Document Identifiers CMS-10108, CMS-10115, and CMS-10130]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish a notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by August 12, 2013.

ADDRESSES: When commenting on the proposed information collections, please reference the document identifier or OMB control number. To be assured consideration, comments and recommendations must be received by the OMB desk officer via one of the following transmissions:

OMB, Office of Information and Regulatory Affairs, Attention: CMS Desk Officer, Fax Number: (202) 395-6974 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Extension of a currently approved collection; Title of Information Collection: Medicaid Managed Care Regulations; Use: The information collection requirements contained in this information collection request implement regulations that allow states greater flexibility to implement mandatory managed care programs, implement new beneficiary protections, and eliminate certain requirements viewed by state agencies as impediments to the growth of managed care programs. Information collected includes information about managed care programs, grievances and appeals, enrollment broker contracts, and managed care organizational capacity to provide health care services. Medicaid enrollees use the information collected and reported to make informed choices regarding health care, including how to access health care services and the grievance and appeal system. States use the information collected and reported as part of its contracting process with managed care entities, as well as its compliance oversight role. We use the information collected and reported in an oversight role of state Medicaid managed care programs. Form Number: CMS-10108 (OCN: 0938-0920); Frequency: Occasionally; Affected Public: Individuals or households, Private sector (business or other for-profit and not-for-profit institutions), and State, local or Tribal Government; Number of Respondents: 1,640,223; Total Annual Responses: 5,217,333; Total Annual Hours: 5,872,255. (For policy questions regarding this collection contact Amy Gentile at 410-786-3499.)

2. Type of Information Collection Request: Reinstatement with change of a previously approved collection; Title of Information Collection: Federal Reimbursement of Emergency Health Services Furnished to Undocumented Aliens, Section 1011 of the Medicare Prescription Drug, Improvement and Modernization Act of 2003 (MMA); Use: Section 1011 of the Medicare Prescription Drug, Improvement and Modernization Act of 2003 (MMA) provides that the Secretary will establish a process (i.e., enrollment and claims payment) for eligible providers to request payment. The Secretary must directly pay hospitals, physicians and ambulance providers (including Indian Health Service, Indian Tribe and Tribal organizations) for their otherwise un-reimbursed costs of providing services required by section 1867 of the Social Security Act and related hospital inpatient, outpatient and ambulance services. We will use the application information to administer this health services program and establish an audit process. Form Number: CMS-10115 (OCN: 0938-0929); Frequency: Once and occasionally; Affected Public: Private sector (business or other for-profit and not-for-profit institutions); Number of Respondents: 10,000; Total Annual Responses: 10,000; Total Annual Hours: 5,000. (For policy questions regarding this collection contact Fred Rooke at 404-562-7502.)

3. Type of Information Collection Request: Reinstatement without change of a previously approved collection; Title of Information Collection: Federal Reimbursement of Emergency Health Services Furnished to Undocumented Aliens, Section 1011 of the Medicare Prescription Drug, Improvement and Modernization Act of 2003 (MMA): “Section 1011 Provider Payment Determination” and “Request for Section 1011 Hospital On-Call Payments to Physicians” Forms; Use: Section 1011 of the MMA requires that the Secretary establish a process under which eligible providers (certain hospitals, physicians and ambulance providers) may request payment for (claim) their otherwise un-reimbursed costs of providing eligible services. The Secretary must make quarterly payments directly to such providers. The Secretary must also implement measures to ensure that inappropriate, excessive, or fraudulent payments are not made under Section 1011, including certification by providers of the veracity of their requests for payment. Both forms have been established to address the statutory requirements outlined above. Form Number: CMS-10130 (OCN: 0938-0952); Frequency: Occasionally; Affected Public: Private sector (business or other for-profit and not-for-profit institutions); Number of Respondents: 12,037; Total Annual Responses: 300,148; Total Annual Hours: 75,037. (For policy questions regarding this collection contact Fred Rooke at 404-562-7205.)

Dated: July 9, 2013.
Martique Jones,
Deputy Director, Regulations Development Group, Office of Strategic Operations and Regulatory Affairs.

[FR Doc. 2013-16742 Filed 7-11-13; 8:45 am]

BILLING CODE 4120-01-P